GENERAL SERVICES ADMINISTRATION

[Notice-PBS-2018-03; Docket No. 2018-0002; Sequence No. 3]

Notice of Availability of a Final Environmental Assessment for the Otay Mesa USDA Plant Inspection Station

AGENCY: Public Buildings Service (PBS), Pacific Rim Division, General Services Administration (GSA).

ACTION: Notice of availability.

SUMMARY: We are advising the public that GSA has prepared a Final Environmental Assessment (EA) and Finding of No Significant Impact (FONSI) for the construction of the proposed U.S. Department of Agriculture (USDA) Animal and Plant Health Inspection Service (APHIS) Plant Inspection Station (PIS), adjacent to the existing Otay Mesa Land Port of Entry (LPOE) in Otay Mesa, San Diego County, California. Based on its finding of no significant impacts, GSA has determined that an Environmental Impact Statement need not be prepared.

DATES: A public meeting to solicit comments and provide information about the Final EA and FONSI will be held on Thursday, March 29, 2018, from 4:00 p.m. to 6:00 p.m., Pacific Time (PT).

ADDRESSES: The meeting will be held at the Holiday Inn Express & Suites Conference Room, located at 2296 Niels Bohr Court, San Diego, California 92154.

Copies of the EA and FONSI are also available for public inspection at the Otay Mesa-Nestor Branch Library, located at 3003 Coronado Avenue, San Diego, CA 92154. The Final EA and FONSI can also be viewed on the GSA website at http://www.gsa.gov/nepa. Click on NEPA Library, then Public Documents. In addition, copies may be obtained by calling or writing to the individual listed below.

FOR FURTHER INFORMATION CONTACT: Please contact Osmahn Kadri, NEPA Project Manager, Pacific Rim Region, GSA, 50 United Nations Plaza, Room 3345, Mailbox 9, San Francisco, CA 94102, by phone at 415-522-3617, or via email to osmahn.kadri@gsa.gov.

SUPPLEMENTARY INFORMATION:

Background

Details of the Preferred Alternative were described in the NEPA document entitled Final Environmental Assessment for the USDA Animal and Plant Health Inspection Service Plant Inspection Station at the Otay Mesa Land Port of Entry, San Diego, California (JMT, 2018). The Draft EA was published and circulated among responsible government agencies and the public for a period of no less than 30 days, ending on December 29, 2017. A public meeting on the Draft EA was held on December 5, 2017. Comments received during the meeting and circulation period were considered by GSA in this final decision. The finding, which is based on the EA, reflects GSA's determination that the construction of the proposed facility will not have a significant impact on the quality of the human or natural environment.

Finding

Pursuant to the provision of GSA Order ADM 1095.1F, the PBS NEPA Desk Guide, and the regulations issued by the Council of Environmental Quality, (40 CFR parts 1500 to 1508), this notice advises the public of our finding that the action described above will not significantly affect the quality of the human environment.

The Finding of No Significant Impact will become final 30 days after the publication of this notice, provided that no information leading to the contrary finding is received or comes to light during this period.

Dated: March 12, 2018.
Matthew Jear,
Director, Portfolio Management Division, Pacific Rim Region, Public Buildings Service.

[FR Doc. 2018-05506 Filed 3-16-18; 8:45 am]

BILLING CODE 6820-YF-P